DEPARTMENT OF THE INTERIOR

National Park Service

[NPS-WASO-NAGPRA-NPS0027722; PCU00RP14.R50000-PPWOCRDN0]

Notice of Inventory Completion: U.S. Department of the Interior, Bureau of Indian Affairs, Washington, DC

AGENCY: National Park Service, Interior.

ACTION: Notice.

SUMMARY: The U.S. Department of the Interior, Bureau of Indian Affairs has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Bureau of Indian Affairs. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Bureau of Indian Affairs at the address in this notice by June 6, 2019.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs, Washington, DC. The human remains and associated funerary objects were removed from Pyramid Lake in Washoe County, NV.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the U.S. Department of the Interior, Bureau of Indian Affairs professional staff in consultation with representatives of the Pyramid Lake Paiute Tribe of the Pyramid Lake Reservation, Nevada.

History and Description of the Remains

In February 1968, human remains representing, at minimum, two individuals were removed from the shoreline of Pyramid Lake in Washoe County, NV. The human remains and associated funerary objects were housed at the University of Nevada, Reno, Department of Anthropology until sometime between April and August 1993, when they were moved to the Nevada State Museum in Carson City, NV. The human remains and associated funerary objects were returned to the University of Nevada, Reno, Department of Anthropology in February 2011, where they have continued to be housed. No known individuals were identified. The five associated funerary objects are two bird bones, one pelican bone, one mammal rib, and one piece of basalt.

Determinations Made by the U.S. Department of the Interior, Bureau of Indian Affairs

Officials of the U.S. Department of the Interior, Bureau of Indian Affairs have determined that:

• Pursuant to 25 U.S.C. 3001(9), the human remains described in this notice are Native American based on studies conducted by physical anthropologists.

• Pursuant to 25 U.S.C. 3001(9), the human remains described in this notice represent the physical remains of two individuals of Native American ancestry.

• Pursuant to 25 U.S.C. 3001(3)(A), the five objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Pursuant to 25 U.S.C. 3001(15), the land from which the Native American human remains and associated funerary objects were removed is the tribal land of the Pyramid Lake Paiute Tribe of the Pyramid Lake Reservation, Nevada.

• Pursuant to 43 CFR 10.11(c)(1), the disposition of the human remains and associated funerary objects may be to the Pyramid Lake Paiute Tribe of the Pyramid Lake Reservation, Nevada.

Additional Requestors and Disposition

Representatives of any Indian Tribe or Native Hawaiian organization not identified in this notice that wish to request transfer of control of these human remains and associated funerary objects should submit a written request with information in support of the request to Anna Pardo, Museum Program Manager/NAGPRA Coordinator, U.S. Department of the Interior, Bureau of Indian Affairs, 12220 Sunrise Valley Drive, Room 6084, Reston, VA 20191, telephone (703) 390-6343, email Anna.Pardo@bia.gov, by June 6, 2019. After that date, if no additional requestors have come forward, transfer of control of the human remains and associated funerary objects to the Pyramid Lake Paiute Tribe of the Pyramid Lake Reservation, Nevada may proceed.

The U.S. Department of the Interior, Bureau of Indian Affairs is responsible for notifying the Pyramid Lake Paiute Tribe of the Pyramid Lake Reservation, Nevada that this notice has been published.

Dated: April 16, 2019.
Melanie O'Brien,
Manager, National NAGPRA Program.

[FR Doc. 2019-09308 Filed 5-6-19; 8:45 am]

BILLING CODE 4312-52-P